DEPARTMENT OF COMMERCE

Bureau of Economic Analysis

[Docket No. 190709556-9556-01]

RIN 0691-XC103

Notice of Advisory Committee Renewal

AGENCY: Bureau of Economic Analysis, Department of Commerce.

ACTION: Notice.

SUMMARY: The Charter for the Bureau of Economic Analysis Advisory Committee is renewed for an additional two-year period, as a necessary committee which is in the public interest, in accordance with the provisions of the Federal Advisory Committee Act (FACA),5 U.S.C. App. 2.

FOR FURTHER INFORMATION CONTACT: Gianna Marrone, Program Analyst, U.S. Department of Commerce, Bureau of Economic Analysis, Suitland, MD 20746; telephone number: (301) 278-9282; email: gianna.marrone@bea.gov.

SUPPLEMENTARY INFORMATION: The BEA Advisory Committee advises the Director of BEA on matters related to the development and improvement of BEA's national, regional, industry, and international economic accounts, with a focus on new and rapidly growing areas of the U.S. economy. The committee provides recommendations from the perspectives of academia, business, and government.

On June 7, 2019, the Secretary of Commerce approved the renewal of the BEA Advisory Committee charter. The new charter was made effective and filed with the appropriate Congressional committees and the Library of Congress on the same day. Renewal of the Committee's charter gives authorization for the Committee to continue to operate until June 7, 2021.

A copy of the BEA Advisory Committee charter is available on the Committee's website at https://www.bea.gov/about/bea-advisory-committee. A copy of the charter can also be obtained by accessing the FACA database that is maintained by the Committee Management Secretariat under the General Services Administration. The website address for the FACA database is www.facadatabase.gov.

Dated: July 11, 2019.
Shaunda Villones,
Chief of Budget and Planning, Office of the Director, Bureau of Economic Analysis.

[FR Doc. 2019-16516 Filed 8-1-19; 8:45 am]

BILLING CODE P